DEPARTMENT OF COMMERCE

National Oceanic and Atmospheric Administration

50 CFR Parts 216 and 300

[Docket Number 250108-008]

RIN 0648-BG11

Implementation of Provisions of the Illegal, Unreported, and Unregulated Fishing Enforcement Act of 2015, the Ensuring Access to Pacific Fisheries Act, and the James M. Inhofe National Defense Authorization Act for Fiscal Year 2023

AGENCY: National Marine Fisheries Service (NMFS), National Oceanic and Atmospheric Administration (NOAA), Commerce.

ACTION: Proposed rule; withdrawal.

SUMMARY: NMFS formally withdraws a proposed rule on the Implementation of Provisions of the Illegal, Unreported, and Unregulated Fishing Enforcement Act of 2015 and the Ensuring Access to Pacific Fisheries Act, which was published in the Federal Register on July 8, 2022. This proposed rule would have implemented certain provisions of the two acts and amended the definition of illegal, unreported, or unregulated (IUU) fishing in the regulations that implement the High Seas Driftnet Fishing Moratorium Protection Act (Moratorium Protection Act). After the proposed rule was issued, Congress amended the Moratorium Protection Act by the James M. Inhofe National Defense Authorization Act for Fiscal Year 2023 (NDAA). NMFS has been developing a revised proposed rule in light of the NDAA to conform to the statutory changes, but does not have sufficient time to finalize the rule in this Administration.

DATES: The National Marine Fisheries Service is withdrawing the proposed rule published July 8, 2022 (87 FR 40763) as of January 16, 2025.

ADDRESSES: Office of International Affairs, Trade, and Commerce, National Marine Fisheries Service, 1315 East-West Highway (F/IS5), Silver Spring, MD 20910.

FOR FURTHER INFORMATION CONTACT: Terra Lederhouse, Office of International Affairs, Trade, and Commerce, National Marine Fisheries Service (phone: 301-427-8360; or email: terra.lederhouse@noaa.gov).

SUPPLEMENTARY INFORMATION:

Background

On July 8, 2022, NMFS published a proposed rule (87 FR 40763) on the Implementation of Provisions of the Illegal, Unreported, and Unregulated Fishing Enforcement Act of 2015 and the Ensuring Access to Pacific Fisheries Act. The proposed rule would have implemented the Agreement on Port State Measures to Prevent, Deter and Eliminate Illegal, Unreported and Unregulated Fishing (PSMA) and certain other provisions of the Illegal, Unreported, and Unregulated Fishing Enforcement Act of 2015, Public Law 114-81 (November 15, 2015), as well as certain provisions of the Ensuring Access to Pacific Fisheries Act, Public Law 114-327 (December 16, 2016). The purpose of this proposed rule was to establish or amend procedures intended to assist the United States in combatting IUU fishing. It would have implemented the PSMA, which is intended to enhance regional and international cooperation and the ability of nations to detect and intercept products of IUU fishing before they enter into national and international markets. It would have amended the definition of IUU fishing in the regulations that implement the High Seas Driftnet Fishing Moratorium Protection Act as well as procedures to identify nations whose vessels undertake IUU fishing and other unsustainable fishing practices and negatively certify nations when they fail to take appropriate corrective actions. Finally, this proposed rule would also have amended the fisheries enforcement mechanisms of a number of existing statutes implementing U.S. obligations to regional fisheries management organizations and other international conservation organizations.

After the proposed rule was issued, President Biden signed the James M. Inhofe National Defense Authorization Act for Fiscal Year 2023 (NDAA), Public Law 117-263 (December 23, 2022). NMFS has been revising the July 8, 2022, proposed rule in light of amendments made to the Moratorium Protection Act by the NDAA to conform to the statutory changes. Combatting IUU fishing has been a top priority for NMFS, and NMFS has actively engaged with interagency partners and constituents on how best to address this critical issue through rulemaking and other means since the passage of the NDAA. Despite its best efforts, NMFS does not have sufficient time to finalize before the end of this Administration a revised version of the regulation that would appropriately address the statutory changes or to seek public input on those potential changes. Accordingly, NMFS hereby withdraws the July 2022 proposed rule and terminates this rulemaking proceeding. If, in the future, NMFS decides it is appropriate to issue regulations on this topic, it will do so via a new notice of proposed rulemaking, subject to the requirements of the Administrative Procedure Act, 5 U.S.C. 551, et seq.

Authority: Pub. L. 114-81 (November 15, 2015); Pub. L. 114-327 (December 16, 2016); Pub. L. 117-263 (December 23, 2022); 16 U.S.C. 1826d-k; 16 U.S.C. 1801 et seq.; 16 U.S.C. 5501 et seq.; 16 U.S.C. 2431 et seq.; 31 U.S.C. 9701 et seq.; 16 U.S.C. 1826a-1826c; 16 U.S.C. 1361 et seq.; 16 U.S.C. 971 et seq.; 16 U.S.C. 5601 et seq.; the Pacific Salmon Treaty Act, 16 U.S.C. 3631 et seq.; 16 U.S.C. 951 et seq., 16 U.S.C. 5501 et seq.

Dated: January 8, 2025.
Samuel D. Rauch, III,
Deputy Assistant Administrator for Regulatory Programs, National Marine Fisheries Service.

[FR Doc. 2025-00716 Filed 1-15-25; 8:45 am]

BILLING CODE 3510-22-P